DEPARTMENT OF ENERGY

Federal Energy Regulatory Commission

[Docket No. RP04-246-000]

CenterPoint Energy Gas Transmission Company; Notice of Revenue Crediting Report

April 6, 2004.

Take notice that on April 1, 2004, CenterPoint Energy Gas Transmission Company (CEGT) submitted its Annual Revenue Crediting Filing pursuant to its FERC Gas Tariff, Sixth Revised Volume No. 1, section 5.7(c)(ii)(2)B (Imbalance Cash Out), section 23.2(b)(iv) (IT, SBS and PHS Revenue Crediting) and section 23.5 (IT Revenue Credit).

CEGT states that its filing addresses the period from February 1, 2003, through January 31, 2004. The IT and FT Cash Balancing Revenue Credits and the IT Revenue Credit for the period reflected in this filing are zero. Since CEGT's current tariff sheets already reflect zero Cash Balancing and IT Revenue Credits, no tariff revisions are necessary.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Intervention and Protest Date: April 13, 2004.

Linda Mitry,
Acting Secretary.

[FR Doc. E4-812 Filed 4-13-04; 8:45 am]

BILLING CODE 6717-01-P